DEPARTMENT OF COMMERCE

Foreign-Trade Zones Board

[S-153-2016]

Approval of Expansion of Subzone 100D; Thor Industries, Inc.; Jackson Center, Ohio

On November 1, 2016, the Executive Secretary of the Foreign-Trade Zones (FTZ) Board docketed an application submitted by the Greater Dayton Foreign-Trade Zone, Inc., grantee of FTZ 100, requesting an expansion of Subzone 100D subject to the existing activation limit of FTZ 100, on behalf of Thor Industries, Inc., in Jackson Center, Ohio.

The application was processed in accordance with the FTZ Act and Regulations, including notice in the Federal Register inviting public comment (81 FR 78773-78774, November 9, 2016). The FTZ staff examiner reviewed the application and determined that it meets the criteria for approval. Pursuant to the authority delegated to the FTZ Board Executive Secretary (15 CFR Sec. 400.36(f)), the application to expand Subzone 100D is approved, subject to the FTZ Act and the Board's regulations, including Section 400.13, and further subject to FTZ 100's 2,000-acre activation limit.

Dated: January 9, 2017.
Andrew McGilvray,
Executive Secretary.

[FR Doc. 2017-00741 Filed 1-12-17; 8:45 am]

BILLING CODE 3510-DS-P